FEDERAL TRADE COMMISSION

16 CFR Chapter I

Semiannual Regulatory Agenda

AGENCY: Federal Trade Commission.

ACTION: Semiannual regulatory agenda.

SUMMARY: The Federal Trade Commission (FTC or Commission) is publishing its semiannual regulatory agenda in accordance with agency regulations.

DATES: May 7, 2020.

ADDRESSES: Copies of this document are available on the Commission's website, www.ftc.gov.

FOR FURTHER INFORMATION CONTACT: For information about specific regulatory actions listed in the agenda, call, email, or write the contact person listed for each particular proceeding. General comments or questions about the agenda should be directed to G. Richard Gold; Attorney, Federal Trade Commission, 600 Pennsylvania Avenue NW, Washington, DC 20580, telephone: (202) 326-3355; email: rgold@ftc.gov.

SUPPLEMENTARY INFORMATION: The Federal Trade Commission (FTC or Commission) is publishing its semiannual regulatory agenda in accordance with section 22(d)(1) of the Federal Trade Commission Act, 15 U.S.C. 57b-3(d)(1) and the Regulatory Flexibility Act (RFA), 5 U.S.C. 601 to 612, as amended by the Small Business Regulatory Enforcement Fairness Act. The Commission's agenda follows guidelines and procedures issued January 16, 2020, by the Office of Management and Budget in accordance with the provisions of Executive Order 12866, “Regulatory Planning and Review,” of September 30, 1993, 58 FR 51735 (Oct. 4, 1993).

The Government-wide Unified Agenda of Federal Regulatory and Deregulatory Actions includes a list of all regulatory actions under development or review and is scheduled for publication in its entirety on www.reginfo.gov and www.regulations.gov in a format that offers users a greatly enhanced ability to obtain information from the agenda database.

The RFA requires publication in the Federal Register of agenda entries for rules that are likely to have a significant impact on a substantial number of small entities (5 U.S.C. 602) and any such rules that the agency has identified for periodic review under section 610 of the RFA. For spring 2020, the Commission has no proposed rules that would meet the RFA's publication requirements. In addition, the Commission has no proposed rules that would be a “significant regulatory action” under the definition in Executive Order 12866.

The Commission has identified rulemakings that are likely to have some impact on small entities, but do not meet the RFA's publication requirements. The current rulemakings that are likely to have some impact on small entities are: (1) The Textile Rules, 16 CRF 303; (2) the Energy Labeling Rule, 16 CFR 305; (3) Telemarketing Sales Rule, 16 CFR 310; (4) Children's Online Privacy Protection Rule, 16 CFR 312; (5) Privacy of Consumer Financial Information, 16 CFR 313; (6) Standards for Safeguarding Customer Information, 16 CFR 314; (7) Contact Lens Rule, 16 CFR 315; (8) Health Breach Notification Rule, 16 CFR 318; (9) the Care Labeling Rule, 16 CFR 423; (10) the Amplifier Rule, 16 CFR 432; (11) Disclosure Requirements and Prohibitions Concerning Franchising, 16 CFR 436; (12) Funeral Rule, 16 CFR 453; (13) Eyeglass Rule, 16 CFR 456; (14) the Duties of Creditors Regarding Risk-Based Pricing Rule, 16 CFR 640; (15) the Duties of Users of Consumer Reports Regarding Address Discrepancies Rule, 16 CFR 641; (16) the Prescreen Opt-Out Notice Rule, 16 CFR 642; (17) the Duties of Furnishers of Information to Consumer Reporting Agencies Rule, 16 CFR 660; (18) the Affiliate Marketing Rule, 16 CFR 680; and (19) Identity Theft Rules, 16 CFR 681. The Commission's rulemaking review process carefully considers regulatory burdens and streamlines rules when feasible and appropriate.

The majority of the rulemakings listed in the agenda are being conducted as part of the Commission's systematic review of all of its regulations and guides on a rotating basis. Under the Commission's program, rules are reviewed on a 10-year schedule. In each rule review, the Commission requests public comments on, among other things, the economic impact and benefits of the rule; possible conflict between the rule and state, local, or other federal laws or regulations; and the effect on the rule of any technological, economic, or other industry changes. These reviews incorporate and expand upon the review required by the RFA and regulatory reform initiatives directing agencies to conduct a review of all regulations and eliminate or revise those that are outdated or otherwise in need of reform.

Except for notice of completed actions, the information in this agenda represents the judgment of Commission staff, based upon information now available. Each projected date of action reflects FTC staff's assessment that the specified event will occur this year. No final determination by the staff or the Commission respecting the need for or the substance of a rule should be inferred from the notation of projected events in this agenda. In most instances, the dates of future events are listed by month, not by a specific day. The information in this agenda may change as new information, changes of circumstances, or changes in the law occur.

By direction of the Commission.
April Tabor,
Acting Secretary.

Federal Trade Commission—Prerule Stage
Sequence No. | Title | Regulation Identifier No.
1 | Telemarketing Sales Rule | 3084-AB19
2 | Trade Regulation Rule on Ophthalmic Practice Rule | 3084-AB37
3 | Disclosure Requirements and Prohibitions Concerning Franchising | 3084-AB49
4 | Identity Theft Rules | 3084-AB50
5 | Regulatory Review | 3084-AB53
6 | Trade Regulation Rule on Funeral Industry Practices | 3084-AB55
7 | Health Breach Notification Rule | 3084-AB56
8 | Prohibitions on Energy Market Manipulation Rule | 3084-AB57
9 | Children's Online Privacy Protection Rule | 3084-AB58
10 | Use of Prenotification Negative Option Plans | 3084-AB60
11 | Trade Regulation Rule Concerning Power Output Claims for Amplifiers Utilized in Home Entertainment Products | 3084-AB62
12 | Fair Credit Reporting Act Rules | 3084-AB63

Federal Trade Commission—Proposed Rule Stage
Sequence No. | Title | Regulation Identifier No.
13 | Rule Concerning Energy and Water Use Labeling for Consumer Products | 3084-AB15
14 | Care Labeling of Textile Apparel and Certain Piece Goods as Amended | 3084-AB28
15 | Standards for Safeguarding Customer Information | 3084-AB35
16 | Contact Lens Rule | 3084-AB36
17 | Privacy of Consumer Financial Information | 3084-AB42
18 | Premerger Notification Rules and Report Form | 3084-AB46
19 | Rules and Regulations Under the Textile Fiber Identification Act | 3084-AB61

Federal trade commission (FTC) | Prerule stage

1. Telemarketing Sales Rule

Priority: Substantive, Nonsignificant.

E.O. 13771 Designation: Independent agency.

Legal Authority: 15 U.S.C. 6101 to 6108; 15 U.S.C. 41 to 58

CFR Citation: 16 CFR 310.

Legal Deadline: None.

Abstract: On August 11, 2014, the Commission initiated periodic review of the Telemarketing Sales Rule and solicited public comments. 79 FR 46732 (Aug. 11, 2014). The comment period as extended closed on November 13, 2014. 79 FR 61267 (Oct. 10, 2014). On December 15, 2015, the Commission amended the Telemarketing Sales Rule to prohibit the use of certain payment methods in all telemarketing transactions, expand the scope of the advance fee ban for recovery services, and clarify certain provisions of the rule. Those amendments became effective February 12, 2016, and June 13, 2016. Staff anticipates making a recommendation regarding further rulemaking to the Commission by June 2020.

Timetable:

Action | Date | FR cite
NPRM | 08/19/09 | 74 FR 41988
NPRM Comment Period End | 10/09/09 |
NPRM Comment Period Extended | 10/15/09 | 74 FR 52914
NPRM Extended Comment Period End | 10/26/09 |
Public Forum | 11/04/09 |
Final Rule | 08/10/10 | 75 FR 48458
Technical Correction to Final Rule | 08/24/10 | 75 FR 51934
Effective Date | 09/27/10 |
Effective Date (Advance Fee Ban) | 10/27/10 |
ANPRM (Caller ID) | 12/15/10 | 75 FR 78179
NPRM (Anti-Fraud) | 07/09/13 | 78 FR 41200
Closure of Proceeding (Caller ID) | 12/20/13 | 78 FR 77024
Rule Review, Request for Public Comment | 08/14/14 | 79 FR 46732
Rule Review Comment Period Extended | 10/10/14 | 79 FR 61267
Rule Review Extended Comment Period End | 11/13/14 |
Final Rule (Anti-Fraud) | 12/14/15 | 80 FR 77520
Final Rule (Anti-Fraud) Effective | 02/12/16 |
Final Rule (Anti-Fraud-Use of Certain Payment Methods) Effective | 06/13/16 |
Recommendation to Commission (Rule Review) | 06/00/20 |

Regulatory Flexibility Analysis Required: No.

Small Entities Affected: Businesses.

Government Levels Affected: None.

Federalism: Undetermined.

International Impacts: This regulatory action will be likely to have international trade and investment effects, or otherwise be of international interest.

Agency Contact: Patricia Hsue, Staff Attorney, Federal Trade Commission, Division of Marketing Practices, 600 Pennsylvania Avenue NW, Washington, DC 20580. Phone: 202 326-3132, Email: phsue@ftc.gov.

RIN: 3084-AB19

2. Trade Regulation Rule on Ophthalmic Practice Rule

Priority: Substantive, Nonsignificant.

E.O. 13771 Designation: Independent agency.

Legal Authority: 15 U.S.C. 41 et seq.

CFR Citation: 16 CFR 456.

Legal Deadline: None.

Abstract: Issued in 1978, the Trade Regulation Rule on Ophthalmic Practice Rules, also known as the Eyeglass Rule (Rule), provides that an optometrist or ophthalmologist must give the patient, at no extra cost, a copy of the eyeglass prescription immediately after the examination is completed. The Rule also prohibits optometrists and ophthalmologists from conditioning the availability of an eye examination, as defined by the Rule, on a requirement that the patient agrees to purchase ophthalmic goods from the optometrist or ophthalmologist and from placing on the prescription, or delivering to the patient, certain disclaimers or waivers of liability.

As part of its ongoing systematic review of all Federal Trade Commission rules and guides, on September 3, 2015, the Commission requested public comments on, among other things, the economic impact and benefits of the Rule; possible conflict between the Rule and State, local, or other Federal laws or regulations; and the effect on the Rule of any technological, economic, or other industry changes. The comment period closed on October 26, 2015.

Commission staff has completed review of the 831 comments received from consumers, eye care professionals, industry members, trade associations, and consumer advocates and anticipates sending a recommendation to the Commission for further action by August 2020.

Timetable:

Action | Date | FR cite
Rule Review, Request for Public Comments | 09/03/15 | 80 FR 53274
Rule Review Comment Period Closed | 10/26/15 |
Recommendation to Commission | 08/00/20 |

Regulatory Flexibility Analysis Required: No.

Small Entities Affected: Businesses, Organizations.

Government Levels Affected: None.

URL For More Information: https://www.ftc.gov/news-events/press-releases/2015/08/ftc-seeks-public-input-review-eyeglass-rule.

Agency Contact: Alysa Bernstein, Attorney, Federal Trade Commission, 600 Pennsylvania Avenue NW, CC-10528, Washington, DC 20580, Phone: 202 326-3289, Email: abernstein@ftc.gov.

Related RIN: Previously reported as 3084-AA80.

RIN: 3084-AB37

3. Disclosure Requirements and Prohibitions Concerning Franchising

Priority: Substantive, Nonsignificant. Major status under 5 U.S.C. 801 is undetermined.

E.O. 13771 Designation: Independent agency.

Legal Authority: 15 U.S.C. 41 to 58

CFR Citation: 16 CFR 436.

Legal Deadline: None.

Abstract: On February 13, 2019, the Commission announced it was initiating periodic review of the Franchise (Rule). The comment period closed on April 21, 2019. The Rule gives prospective purchasers of franchises the material information they need in order to weigh the risks and benefits of such an investment. The Rule requires franchisors to provide all potential franchisees with a disclosure document containing 23 specific items of information about the offered franchise, its officers, and other franchisees. Required disclosure topics include, for example: The franchise's litigation history, past, and current franchisees and their contact information, any exclusive territory that comes with the franchise, assistance the franchisor provides franchisees, and the cost of purchasing and starting a franchise. If a franchisor makes representations about the financial performance of the franchise, this topic also must be covered, as well as the material basis backing up those representations. Staff anticipates making a recommendation to the Commission by September 2020.

Timetable:

Action | Date | FR cite
Rule Review; Request for Comments | 03/15/19 |
Comment Period Closing Date | 04/21/19 |
Recommendation to Commission | 09/00/20 |

Regulatory Flexibility Analysis Required: Undetermined.

Small Entities Affected: Businesses.

Government Levels Affected: State.

International Impacts: This regulatory action will be likely to have international trade and investment effects, or otherwise be of international interest.

URL For More Information: https://www.ftc.gov/news-events/press-releases/2019/02/ftc-seeks-public-comment-part-its-review-franchise-rule.

Agency Contact: Christine Todaro, Attorney, Federal Trade Commission, 600 Pennsylvania Avenue NW, Washington, DC 20580, Phone: 202 326-3711, Email: ctodaro@ftc.gov.

Related RIN: Split from 3084-AA63.

RIN: 3084-AB49

4. Identity Theft Rules

Priority: Substantive, Nonsignificant. Major status under 5 U.S.C. 801 is undetermined.

E.O. 13771 Designation: Independent agency.

Legal Authority: 15 U.S.C. 1681m(e); 15 U.S.C. 1681m(e)(4); 15 U.S.C. 1681c(h)

CFR Citation: 16 CFR 681.

Legal Deadline: None.

Abstract: On December 11, 2018, the Commission initiated periodic review of the Identity Theft Rules, which include the Red Flags Rule and the Card Issuer Rule. The public comment period closed on February 11, 2019, and staff is reviewing the comments. Staff plans to submit a recommendation to the Commission by June 2020.

The Red Flags Rule requires financial institutions and creditors to develop and implement a written Identity Theft Prevention Program. By identifying red flags for identity theft in advance, businesses can be better equipped to spot suspicious patterns that may arise and take steps to prevent potential problems from escalating into a costly episode of identity theft. An Identity Theft Prevention Program must have four parts. First, the program must include reasonable policies and procedures to identify signs or red flags of identity theft in the day-to-day operations of the business. Second, the program must be designed to detect the red flags of identity theft identified by the business. Third, the program must set out the actions the business will take to detect red flags. Finally, because identity theft is an ever-changing threat, a business must re-evaluate its program periodically to reflect new risks from this crime.

The Card Issuer Rule requires credit and debit card issuers to implement reasonable policies and procedures to assess the validity of a change of address if it receives notification of a change of address for a consumer's debit or credit card account and, within a short period of time afterward, also receives a request for an additional or replacement card for the same account.

Timetable:

Action | Date | FR cite
Rule Review; Request for Comments | 12/11/18 | 83 FR 63604
Rule Review Comment Period Closed | 02/11/19 |
Recommendation to Commission | 06/00/20 |

Regulatory Flexibility Analysis Required: Undetermined.

Small Entities Affected: Businesses, Governmental Jurisdictions, Organizations.

Government Levels Affected: Local, State.

URL For More Information: https://www.ftc.gov/news-events/press-releases/2018/12/ftc-seeks-comment-identity-theft-detection-rules.

Agency Contact: Ellen Connelly, Attorney, Federal Trade Commission, 600 Pennsylvania Avenue NW, Washington, DC 20580, Phone: 202 326-2532, Email: econnelly@ftc.gov.

Amanda Koulousias, Attorney, Federal Trade Commission, 600 Pennsylvania Avenue NW, Washington, DC 20580, Phone: 202 326-3334, Email: akoulousias@ftc.gov.

Stacy Procter, Attorney, Federal Trade Commission, 10990 Wilshire Boulevard, Suite 400, Los Angeles, CA 90024, Phone: 310 825-4300, Email: sprocter@ftc.gov.

Related RIN: Split from 3084-AA94.

RIN: 3084-AB50

5. Regulatory Review

Priority: Other Significant.

E.O. 13771 Designation: Independent agency.

Legal Authority: 15 U.S.C. 41 et seq.

CFR Citation: 16 CFR 1 et seq.

Legal Deadline: None.

Abstract: The Commission continues its review of current rules and guides to identify any that should be modified or rescinded. No determination about whether to modify or rescind a rule, guide, or interpretation or any other procedural option should be inferred from the Commission's decision to publish a request for comments. The Commission's periodic review process carefully considers regulatory burdens and streamlines rules when feasible and appropriate. In certain instances, the reviews may also address other specific matters or issues, such as proposed amendments. Finally, the Commission may modify the rule review timetable as circumstances warrant.

Timetable:

Action | Date | FR cite
Notice of Rules and Guides To Review in 2018 | 02/20/18 | 83 FR 7120
Notice of Rules and Guides To Review in 2019 | 05/02/19 | 84 FR 18746
Notice of Rules and Guides To Review in 2020 | 04/15/20 | 85 FR 20889
Notice of Rules and Guides to Review in 2021 | 02/00/21 |

Regulatory Flexibility Analysis Required: No.

Small Entities Affected: No.

Government Levels Affected: None.

Agency Contact: Jock K. Chung, Attorney, Federal Trade Commission, 600 Pennsylvania Avenue NW, CC-9528, Washington, DC 20580, Phone: 202 326-2984, Email: jchung@ftc.gov.

Related RIN: Previously reported as 3084-AA47.

RIN: 3084-AB53

6. Trade Regulation Rule on Funeral Industry Practices

Priority: Substantive, Nonsignificant. Major status under 5 U.S.C. 801 is undetermined.

E.O. 13771 Designation: Independent agency.

Legal Authority: 15 U.S.C. 45; 15 U.S.C. 46(g); 15 U.S.C. 57a

CFR Citation: 16 CFR 453.

Legal Deadline: None.

Abstract: On February 14, 2020, the Commission initiated periodic review of the Funeral Industry Practices Rule (Funeral Rule or Rule). 85 FR 8490 (Feb. 14, 2020). The comment period as extended will close on June 15, 2020. 85 FR 20453 (April 13, 2020). The Rule, which became effective in 1984, requires sellers of funeral goods and services to give price lists to consumers who visit a funeral home and disclose price and other information to callers who request it over the telephone. The Rule enables consumers to select and purchase only the goods and services they want and requires funeral providers to seek authority before performing some services such as embalming. The Rule also requires funeral providers to make disclosures regarding any required purchases and prohibits misrepresentations regarding requirements and other aspects of funeral goods and services.

Timetable:

Action | Date | FR Cite
Rule Review, Request for Comments | 02/14/20 | 85 FR 8490
Rule Review; Request for Comments (Comment Period Extended) | 04/13/20 | 85 FR 20453
Rule Review; Request for Comments (Extended Comment Period End) | 06/15/20 |
Staff Review of Comments | 06/00/20 |

Regulatory Flexibility Analysis Required: Undetermined.

Small Entities Affected: Businesses.

Government Levels Affected: None.

URL For More Information: https://www.ftc.gov/news-events/press-releases/2020/02/ftc-seeks-public-comment-part-its-review-funeral-rule.

URL For Public Comments: https://www.regulations.gov.

Agency Contact: Patti Poss, Federal Trade Commission, 600 Pennsylvania Avenue NW, CC-8528, Washington, DC 20580, Phone: 202 326-2413, Email: pposs@ftc.gov.

Related RIN: Previously reported as 3084-AA82.

RIN: 3084-AB55

7. Health Breach Notification Rule

Priority: Substantive, Nonsignificant. Major status under 5 U.S.C. 801 is undetermined.

E.O. 13771 Designation: Independent agency.

Legal Authority: sec. 13407 of the American Recovery and Reinvestment Act of 2009

CFR Citation: 16 CFR 318.

Legal Deadline: None.

Abstract: The Commission plans to initiate periodic review of the Health Breach Notification Rule (Rule) by June 2020. This Rule requires vendors of personal health records (PHR) and PHR-related entities to provide: (1) Notice to consumers whose unsecured personally identifiable health information has been breached; and (2) notice to the Commission.

Under the Rule, vendors must notify both the FTC and affected consumers “without unreasonable delay and in no case later than 60 calendar days” after discovery of the breach. Among other information, the notices must provide consumers with steps they can take to protect themselves from harm.

The FTC's Rule applies only to health information that is not secured through technologies specified by the Department of Health and Human Services (HHS). Also, the FTC's Rule does not apply to businesses or organizations covered by the Health Insurance Portability and Accountability Act (HIPAA). Entities covered by HIPAA must comply with HHS' breach notification rule in the event of a security breach.

Timetable:

Action | Date | FR cite
Rule Review; Request for Comments | 06/00/20 |

Regulatory Flexibility Analysis Required: Undetermined.

Small Entities Affected: Businesses.

Government Levels Affected: None.

Agency Contact: Elisa Jillson, Attorney, Federal Trade Commission, 600 Pennsylvania Avenue NW, Washington, DC 20580, Phone: 202 326-3001, Email: ejillson@ftc.gov.

Related RIN: Previously reported as 3084-AB17.

RIN: 3084-AB56

8. Prohibitions on Energy Market Manipulation Rule

Priority: Substantive, Nonsignificant. Major status under 5 U.S.C. 801 is undetermined.

E.O. 13771 Designation: Independent agency.

Legal Authority: 42 U.S.C. 17301 to 17305

CFR Citation: 16 CFR 317.

Legal Deadline: None.

Abstract: The Commission plans to initiate periodic review of the Prohibition of Energy Market Manipulation Rule (Rule) by June 2020. This Rule, which became effective on November 4, 2009, prohibits fraud or deceit in wholesale petroleum markets, and omissions of material information that are likely to distort petroleum markets. Specifically, the final rule prohibits any person, directly or indirectly, in connection with the purchase or sale of crude oil, gasoline, or petroleum distillates at wholesale, from; (1) knowingly engaging in any act, practice, or course of business including making any untrue statement of material fact that operates or would operate as a fraud or deceit on any person; or (2) intentionally failing to state a material fact that under the circumstances renders a statement made by such person misleading, provided that such omission distorts or is likely to distort market conditions for any such product.

Timetable:

Action | Date | FR cite
Rule Review; Request for Comments | 06/00/20 |

Regulatory Flexibility Analysis Required: Undetermined.

Small Entities Affected: Businesses.

Government Levels Affected: None.

International Impacts: This regulatory action will be likely to have international trade and investment effects, or otherwise be of international interest.

Agency Contact: Peter Richman, Assistant Director, Mergers III, Bureau of Competition, Federal Trade Commission, 600 Pennsylvania Avenue NW, Washington, DC 20580, Phone: 202 326-2563, Email: prichman@ftc.gov.

Related RIN: Previously reported as 3084-AB12.

RIN: 3084-AB57

9. Children's Online Privacy Protection Rule

Priority: Substantive, Nonsignificant. Major status under 5 U.S.C. 801 is undetermined.

E.O. 13771 Designation: Independent agency.

Legal Authority: 15 U.S.C. 6501 et seq.; 15 U.S.C. 41 to 58

CFR Citation: 16 CFR 312.

Legal Deadline: None.

Abstract: On July 25, 2019, the Commission requested public comment on its Children's Online Privacy Protection Act Rule (COPPA Rule or Rule). 84 FR 35842 (July 25, 2019). The FTC sought comment on all major provisions of the COPPA Rule, including its definitions, notice and parental consent requirements, exceptions to verifiable parental consent, and safe harbor provision. The Commission held a public workshop to review the COPPA Rule on October 7, 2019. The public comment period closed on October 23, 2019.

The Rule prohibits unfair or deceptive acts or practices in connection with the collection, use and/or disclosure of personal information from and about children under the age of 13 on the internet. The Rule requires operators of commercial websites and online services, with certain exceptions, to obtain verifiable parental consent before collecting, using, or disclosing personal information from or about children. An operator must make reasonable efforts, in light of available technology, to ensure that the person providing consent is the child's parent. The Commission amended the Rule in 2013 to, among other things, expand the definition of personal information covered by the Rule and to include in the definition of “website” and “online service directed to children,” operators of online services with actual knowledge they are collecting personal information directly from users of other websites or online services directed to children.

Timetable:

Action | Date | FR cite
Regulatory Review; Request for Comments | 07/25/19 | 84 FR 35842
Public Workshop | 10/07/19 |
Request for Comment Period End | 10/23/19 |
Review and Analyze Public Comments | 05/00/20 |

Regulatory Flexibility Analysis Required: Undetermined.

Small Entities Affected: Businesses, Organizations.

Government Levels Affected: None.

International Impacts: This regulatory action will be likely to have international trade and investment effects, or otherwise be of international interest.

Agency Contact: Kristin Cohen, Attorney, Federal Trade Commission, Division of Privacy and Identity Protection, 600 Pennsylvania Avenue NW, Washington, DC 20580, Phone: 202 326-2276.

Related RIN: Previously reported as 3084-AB20.

RIN: 3084-AB58

10. Use of Prenotification Negative Option Plans

Priority: Substantive, Nonsignificant. Major status under 5 U.S.C. 801 is undetermined.

E.O. 13771 Designation: Independent agency.

Legal Authority: 15 U.S.C. 41 to 58

CFR Citation: 16 CFR 425.

Legal Deadline: None.

Abstract: On October 2, 2019, the Commission issued an Advance Notice of Proposed Rulemaking for the Negative Option Rule (Trade Regulation Rule on Use of Prenotification Negative Option Plans) seeking public comments on the effectiveness and impact of the rule and whether the rule needs to be amended to help consumers avoid recurring payments for products and services they did not intend to order and allow them to cancel such payments without unwarranted obstacles. 84 FR 52393 (Oct. 2, 2019). The comment period closed on December 2, 2019.

The Negative Option Rule governs the operation of prenotification subscription plans. Under these plans, sellers ship merchandise automatically to their subscribers, and bill them for the merchandise if consumers do not expressly reject the merchandise within a prescribed time. The rule protects consumers by: (1) Requiring that promotional materials disclose the terms of membership clearly and conspicuously, and (2) establishing procedures for the administration of such “negative option” plans.

Timetable:

Action | Date | FR cite
ANPRM | 10/02/19 | 84 FR 52393
ANPRM Comment Period End | 12/02/19 |
Recommendation to Commission | 08/00/20 |

Regulatory Flexibility Analysis Required: Undetermined.

Small Entities Affected: Businesses, Organizations.

Government Levels Affected: None.

International Impacts: This regulatory action will be likely to have international trade and investment effects, or otherwise be of international interest.

Agency Contact: Hampton Newsome, Attorney, Federal Trade Commission, 600 Pennsylvania Avenue NW, Washington, DC 20580, Phone: 202 326-2889, Email: hnewsome@ftc.gov.

Related RIN: Related to 3084-AB13.

RIN: 3084-AB60

11. • Trade Regulation Rule Concerning Power Output Claims for Amplifiers Utilized in Home Entertainment Products

Priority: Substantive, Nonsignificant. Major status under 5 U.S.C. 801 is undetermined.

E.O. 13771 Designation: Independent agency.

Legal Authority: 15 U.S.C. 41 et seq.

CFR Citation: 16 CFR 432.

Legal Deadline: None.

Abstract: By December 2020, the Commission plans to initiate periodic review of the Amplifier Rule (officially the Trade Regulation Rule Concerning Power Output Claims for Amplifiers Utilized in Home Entertainment Products) as part of the Commission's systematic review of all current Commission rules and guides. The Commission plans to seek comments on, among other things, the economic impact and benefits of this rule; possible conflict between the rule and State, local, or other Federal laws or regulations; and the effect on the rule of any technological, economic, or other industry changes. Promulgated in 1974, the Rule assists consumers in purchasing power amplification equipment for home entertainment purposes by standardizing the measurement and disclosure of various performance characteristics of the equipment. The Amplifier Rule establishes uniform test standards and disclosures so that consumers can make more meaningful comparisons of performance attributes. The Rule makes it an unfair or deceptive act or practice for manufacturers and sellers of sound power amplification equipment for home entertainment purposes to fail to disclose certain performance information in connection with direct or indirect representations of power output, power band, frequency, or distortion characteristics. The Rule also sets out standard test conditions for performing the measurements that support the required performance disclosures. Further, the Rule prohibits representations of performance characteristics if they are not obtainable when the equipment is operated by the consumer in the usual and ordinary manner without the use of extraneous aids.

Timetable:

Action | Date | FR cite
Regulatory Review; Request for Comments | 12/00/20 |

Regulatory Flexibility Analysis Required: Undetermined.

Small Entities Affected: Businesses.

Government Levels Affected: None.

Agency Contact: Jock K. Chung, Attorney, Federal Trade Commission, 600 Pennsylvania Avenue NW, CC-9528, Washington, DC 20580, Phone: 202 326-2984, Email: jchung@ftc.gov.

Related RIN: Previously reported as 3084-AB09.

RIN: 3084-AB62

12. • Fair Credit Reporting Act Rules

Priority: Substantive, Nonsignificant. Major status under 5 U.S.C. 801 is undetermined.

E.O. 13771 Designation: Independent agency.

Legal Authority: Pub. L. 108-159, 117 Stat. 1952; Pub. L. 11-24, 123 Stat. 1734

CFR Citation: 16 CFR 640; 16 CFR 641; 16 CFR 642; 16 CFR 660; 16 CFR 680; . . .

Legal Deadline: None.

Abstract: By December 2020, the FTC plans to initiate periodic review of several Fair Credit Reporting Act rules as part of the Commission's systematic review of all current Commission rules and guides. These rules include: “Duties of Creditors Regarding Risk-Based Pricing,” 16 CFR part 640; “Duties of Users of Consumer Reports Regarding Address Discrepancies,” 16 CFR part 641; “Prescreen Opt-Out Notice,” 16 CFR part 642; “Duties of Furnishers of Information to Consumer Reporting Agencies,” 16 CFR part 660; and “Affiliate Marketing,” 16 CFR part 680. The FTC's rulemaking authority for these rules is limited to motor vehicle dealers described in section 1029(a) of the Dodd-Frank Act that are predominantly engaged in the sale and servicing of motor vehicles, the leasing and servicing of motor vehicles, or both. The Commission plans to seek comments on, among other things, the economic impact and benefits of these rules; possible conflict between the rules and State, local, or other Federal laws or regulations; and the effect on the rules of any technological, economic, or other industry changes.

Timetable:

Action | Date | FR cite
Regulatory Review: Request for Comments | 12/00/20 |

Regulatory Flexibility Analysis Required: Undetermined.

Small Entities Affected: Businesses.

Government Levels Affected: None.

Agency Contact: David Lincicum, Federal Trade Commission, 600 Pennsylvania Avenue NW, CC-8232, Washington, DC 20580, Phone: 202 326-2773, Email: dlincicum@ftc.gov.

Katherine White (Affiliate Marketing), Federal Trade Commission, 600 Pennsylvania Avenue NW, Washington, DC 20580, Phone: 202 326-2878, Email: kwhite@ftc.gov.

Related RIN: Previously reported as 3084-AB31, Previously reported as 3084-AA94.

RIN: 3084-AB63

Federal Trade Commission (FTC) | Proposed rule stage

13. Rule Concerning Energy and Water Use Labeling for Consumer Products

Priority: Substantive, Nonsignificant. Major status under 5 U.S.C. 801 is undetermined.

E.O. 13771 Designation: Independent agency.

Legal Authority: sec. 321 and 325 of the Energy Independence and Security Act of 2007 (EISA)

CFR Citation: 16 CFR 305.

Legal Deadline: None.

Abstract: On November 9, 2017, the Commission published proposed rule changes containing scheduled, routine updates to the comparability ranges, and unit energy cost figures on EnergyGuide labels for dishwashers, furnaces, room air conditioners, and pool heaters. The Commission also proposed to set a compliance date for EnergyGuide labels on room air conditioner boxes. The comment period closed on December 4, 2017. On February 22, 2018, the Commission published final rule amendments that update ranges of comparability and unit energy cost figures on EnergyGuide labels for dishwashers, furnaces, room air conditioners, and pool heaters. 83 FR 7593 (Feb. 22, 2018). The effective date is May 23, 2018. The Commission also set a compliance date of October 1, 2019, for EnergyGuide labels on room air conditioner boxes and made several minor clarifications and corrections to the rule.

On October 30, 2019, the Commission issued a final rule that made nonsubstantive amendments to improve the rule's usability. 84 FR 58026 (Oct. 30, 2019). The amendments organized the rule's product descriptions to make it easier for stakeholders to identify relevant covered products, particularly for categories (such as lighting) that contain several different product types and exemptions. Next, the amendments divided the rule's primary labeling provision into several sections to make it easier to identify the labeling requirements for specific products. Finally, the changes removed obsolete, unneeded references to products manufactured and sold decades ago. The final rule was effective on November 29, 2019.

On April 10, 2020, the Commission issued a notice seeking comments on proposed amendments that would establish EnergyGuide labels for portable air conditioners. 85 FR 20218 (April 10, 2020). The proposed amendments also sought comment on changes to energy efficiency descriptors for central air conditioners to conform to upcoming DOE changes. The comment period will close on June 9, 2020.

Timetable:

Action | Date | FR cite
ANPRM | 07/17/08 | 73 FR 40988
Public Meeting | 09/15/08 |
ANPRM Comment Period End | 09/29/08 |
ANPRM (Consumer Electronics) | 03/16/09 | 74 FR 11045
ANPRM (Consumer Electronics) Comment Period End | 05/14/09 |
NPRM (Light Bulbs) | 11/10/09 | 74 FR 57950
NPRM Comment Period End (Light Bulbs) | 12/28/09 |
NPRM (TVs and Other Consumer Electronics) | 03/11/10 | 75 FR 11483
Public Meeting (TVs and Other Consumer Electronics) | 04/16/10 |
NPRM (TVs and Other Consumer Electronics) Comment Period End | 05/14/10 |
Final Rule (Light Bulbs) | 07/19/10 | 75 FR 41696
Technical Correction to Final Rule (Light Bulbs) | 08/16/10 | 75 FR 49818
Comment Period End (Light Bulb: Other Issues) | 09/20/10 |
NPRM (Light Bulbs) | 12/29/10 | 75 FR 81943
Final Rule (TVs) | 01/06/11 | 76 FR 1038
Final Rule (Light Bulb) | 04/12/11 | 76 FR 20233
NPRM (Light Bulb II) | 08/01/11 | 76 FR 45715
ANPRM (Regional Efficiency Standards) | 11/28/11 | 76 FR 72872
Public Meeting (Regional Efficiency Standards) | 12/16/11 |
ANPRM Comment Period End (Regional Efficiency Standards) | 01/10/12 |
NPRM (Systematic Review) | 03/15/12 | 77 FR 15298
NPRM (Regional Efficiency Standards) | 06/06/12 | 77 FR 33337
NPRM (Comparability Ranges) | 01/09/13 | 78 FR 1779
Final Rule (Systematic Review) | 01/10/13 | 78 FR 2200
Final Rule (Regional Efficiency Standards) | 02/06/13 | 78 FR 8362
Final Rule (Comparability Ranges) | 07/23/13 | 78 FR 43974
NPRM (Televisions) | 12/26/13 | 78 FR 78305
NPRM (Televisions) Comment Period End | 02/14/14 |
Final Rule (Televisions) | 04/09/14 | 79 FR 19464
Supplemental NPRM (Systematic Review) | 06/18/14 | 79 FR 34642
Supplemental NPRM (Systematic Review) Comment Period End | 08/18/14 |
Final Rule (Regional Efficiency Standards) | 12/29/14 | 79 FR 77868
ANPRM (Refrigeration Products) | 12/31/14 | 79 FR 78736
Final Action Effective (Regional Efficiency Standards) | 04/06/15 |
Final Rule (Systematic Review) | 11/02/15 | 80 FR 67285
NPRM (Access to Labels) | 11/02/15 | 80 FR 67351
NPRM Comment Period End | 01/01/16 |
Final Rule (Comparability Ranges) | 02/11/16 | 81 FR 7201
Final Rule (Comparability Ranges) Effective Date | 05/11/16 |
NPRM (Fans, Water Heaters, Plumbing) | 09/12/16 | 81 FR 62681
Final Rule (Access to Labels) | 09/15/16 | 81 FR 63634
Final Rule (Access to Labels) Effective | 09/17/16 |
NPRM (Fans, Water Heaters, Plumbing) Comment Period End | 11/14/16 |
Final Rule (Access to Labels); Correction | 10/28/16 | 81 FR 74917
Final Rule (Access to Labels) Effective | 06/17/17 |
Final Rule (Fans, Water Heaters, Plumbing) | 06/28/17 | 82 FR 29230
NPRM (Comparability Ranges) | 11/09/17 | 82 FR 52024
NPRM (Comparability Ranges) Comment Period End | 12/04/17 |
Final Rule (Comparability Ranges) | 02/22/18 | 83 FR 7593
Final Rule (Comparability Ranges) Effective | 05/23/18 |
Final Rule (Room Air Conditioner Boxes) Effective | 10/01/19 |
NPRM (Non-substantive Reorganization) | 03/14/19 | 84 FR 9261
NPRM (Non-substantive Reorganization) Comment Period End | 04/15/19 |
Final Rule (Non-substantive Reorganization) | 10/30/19 | 84 FR 58026
Final Rule (Non-substantive Reorganization) Effective | 11/29/19 |
NPRM (Air Conditioners) | 04/10/20 | 85 FR 20218
NPRM (Air Conditioners) Comment Period End | 06/09/20 |

Regulatory Flexibility Analysis Required: Undetermined.

Small Entities Affected: Businesses, Governmental Jurisdictions, Organizations.

Government Levels Affected: None.

URL For More Information: https://www.ftc.gov/news-events/press-releases/2019/10/ftc-publishes-amendments-improve-usability-energy-labeling-rule.

Agency Contact: Hampton Newsome, Attorney, Federal Trade Commission, Bureau of Consumer Protection, 600 Pennsylvania Avenue NW, CC-9528, Washington, DC 20580, Phone: 202 326-2889, Email: hnewsome@ftc.gov.

Related RIN: Related to 3084-AB11.

RIN: 3084-AB15

14. Care Labeling of Textile Apparel and Certain Piece Goods as Amended

Priority: Other Significant. Major status under 5 U.S.C. 801 is undetermined.

E.O. 13771 Designation: Independent agency.

Legal Authority: 15 U.S.C. 41 et seq.

CFR Citation: 16 CFR 423.

Legal Deadline: None.

Abstract: As part of the systematic review of all Commission rules, on July 13, 2011, the Commission initiated its periodic review of the Care Labeling Rule (or the Rule on Care Labeling of Textile Apparel and Certain Piece Goods as Amended) by publishing a notice seeking public comments on the effectiveness and impact of the rule. 76 FR 41148 (July 13, 2011). The comment period closed on September 6, 2011, and staff reviewed the comments.

On September 11, 2012, the Commission announced a Notice of Proposed Rulemaking (NPRM). Based on a review of comments, the Commission concluded that the rule continues to benefit consumers, and would be retained. The NPRM sought comments on potential updates to the rule, including changes that would: Allow manufacturers and importers, if they so choose, to include professional instructions for wet-cleaning—an environmentally friendly alternative to dry cleaning—on labels if garments can be professionally wet cleaned; permit manufacturers to use updated American Society for Testing and Materials or International Organization for Standardization symbols on labels in lieu of written terms providing care instructions; clarify what constitutes a reasonable basis for care instructions; and update and expand the definition of “dry clean” to reflect current practices and account for the advent of new solvents. The comment period closed on November 16, 2012.

On July 24, 2013, the Commission announced that it would host a public roundtable on October 1, 2013, to analyze proposed changes to the rule. 78 FR 45901 (July 30, 2013). On March 28, 2014, the Commission hosted a public roundtable in Washington, DC, that analyzed proposed changes to the rule. Staff anticipates the Commission will issue a Supplemental NPRM by June 2020.

The Care Labeling Rule makes it an unfair or deceptive act or practice for manufacturers and importers of textile wearing apparel and certain piece goods to sell these items without attaching care labels stating “what regular care is needed for the ordinary use of the product.” The rule also requires that the manufacturer or importer possess, prior to sale, a reasonable basis for the care instructions, and allows the use of approved care symbols in lieu of words to disclose care instructions.

Timetable:

Action | Date | FR cite
ANPRM | 07/13/11 | 76 FR 41148
ANPRM Comment Period Closed | 09/06/11 |
NPRM | 09/20/12 | 77 FR 58338
NPRM Comment Period Closed | 11/16/12 |
Commission Roundtable | 03/28/14 |
NPRM and Roundtable Comment Period End | 04/11/14 |
Supplemental NPRM | 06/00/20 |

Regulatory Flexibility Analysis Required: Undetermined.

Small Entities Affected: Businesses.

Government Levels Affected: None.

Agency Contact: Hampton Newsome, Attorney, Federal Trade Commission, Bureau of Consumer Protection, 600 Pennsylvania Avenue NW, Washington, DC 20580, Phone: 202 326-2889, Email: hnewsome@ftc.gov.

Related RIN: Previously reported as 3084-AA54.

RIN: 3084-AB28

15. Standards for Safeguarding Customer Information

Priority: Substantive, Nonsignificant. Major status under 5 U.S.C. 801 is undetermined.

E.O. 13771 Designation: Independent agency.

Legal Authority: The Gramm-Leach-Bliley Act as codified at 15 U.S.C. 6801(b), 6805(b)(2)

CFR Citation: 16 CFR 314.

Legal Deadline: None.

Abstract: The Safeguards Rule, as directed by the Gramm-Leach-Bliley (GLB) Act, requires each financial institution subject to the FTC's jurisdiction to develop a written information security program to keep customer information secure that is appropriate to its size and complexity, the nature and scope of its activities, and the sensitivity of the customer information at issue. Companies covered by the rule are also responsible for taking steps to ensure that their service providers safeguard customer information in their care. The Commission believes that the rule strikes an appropriate balance between allowing financial institutions flexibility and establishing standards for safeguarding customer information that are consistent with GLB's requirements.

As part of its ongoing systematic review of all rules and guides, on September 7, 2016, the Commission requested public comments on, among other things, the economic impact and benefits of the rule; possible conflict between the rule and State, local, or other Federal laws or regulations; and the effect on the rule of any technological, economic, or other industry changes. 81 FR 61632 (Sept. 7, 2016). The comment period closed on November 7, 2016. On March 5, 2019, the Commission announced a notice of proposed rulemaking. 84 FR 13158 (April 4, 2019). The public comment period as extended closed on August 2, 2019. 84 FR 24049 (May 24, 2019). Staff is reviewing approximately 50 comments that were submitted. On March 6, 2020, the Commission announced that a public workshop relating to the April 4, 2019 NPRM would be held on May 13, 2020. 85 FR 13082 (Mar. 6, 2020). However, due to the COVID-19 pandemic, the workshop will be postponed until July 13, 2020.

Timetable:

Action | Date | FR cite
Rule Review, Request for Public Comment | 09/07/16 | 81 FR 61632
Comment Period End | 11/07/16 |
NPRM | 04/04/19 | 84 FR 13158
NPRM Comment Period Extended | 05/24/19 | 84 FR 24049
NPRM Extended Comment Period End | 08/02/19 |
Public Workshop Announcement | 03/06/20 | 85 FR 13082
Public Workshop Rescheduled (Press Release) | 04/21/20 |
Public Workshop | 07/00/20 |
Public Workshop Comment Period End | 08/12/20 |

Regulatory Flexibility Analysis Required: No.

Small Entities Affected: Businesses.

Government Levels Affected: None.

International Impacts: This regulatory action will be likely to have international trade and investment effects, or otherwise be of international interest.

URL For More Information: https://www.ftc.gov/news-events/press-releases/2019/05/ftc-extends-comment-deadline-proposed-changes-safeguards-rule.

Agency Contact: David Lincicum, Federal Trade Commission, 600 Pennsylvania Avenue NW, CC-8232, Washington, DC 20580, Phone: 202 326-2773, Email: dlincicum@ftc.gov.

Related RIN: Previously reported as 3084-AA87.

RIN: 3084-AB35

16. Contact Lens Rule

Priority: Substantive, Nonsignificant.

E.O. 13771 Designation: Independent agency.

Legal Authority: 15 U.S.C. 7601 to 7610

CFR Citation: 16 CFR 315.

Legal Deadline: None.

Abstract: The FTC promulgated the Contact Lens Rule pursuant to the Fairness to Contact Lens Consumers Act (FCLCA), 15 U.S.C. 7601 to 7610, which was enacted to enable consumers to purchase contact lenses from the seller of their choice. The Rule became effective on August 2, 2004. As mandated by the FCLCA, the Rule requires contact lens prescribers to provide prescriptions to their patients on the completion of a contact lens fitting, and verify contact lens prescriptions to contact lens sellers authorized by consumers to seek such verification. Sellers may provide contact lenses only in accordance with a valid prescription that is directly presented to the seller or verified with the prescriber.

As part of its ongoing systematic review of all FTC rules and guides, on September 3, 2015, the Commission requested public comments on, among other things, the economic impact and benefits of the Rule; possible conflict between the Rule and State, local, or other Federal laws or regulations; and the effect on the Rule of any technological, economic, or other industry changes. The comment period closed on October 26, 2015. After Commission staff completed review of the 660 comments received from consumers, eye care professionals, industry members, trade associations, and consumer advocacy groups, the Commission published a Notice of Proposed Rulemaking (NPRM) on December 7, 2016, seeking comment on its proposal to amend the Rule to require contact lens prescribers to obtain a signed acknowledgement after releasing a contact lens prescription to a patient and to maintain it for at least 3 years. In addition, to conform language of the Rule to the language of the FCLCA, the Commission proposed to amend section 315.5(e) of the Rule to remove the words “private label.” The Commission also sought comment on this proposal. The comment period closed on January 30, 2017, and staff reviewed more than 4,000 comments that were received.

On December 8, 2017, the Commission announced that it would hold a public workshop relating to the NPRM and other issues relating to competition in the marketplace and consumer access to contact lens. 82 FR 57889 (Dec. 8, 2017). The workshop was held on March 7, 2018, and the deadline for submitting comments on the issues discussed at the workshop was April 6, 2018. Staff reviewed the more than 3,000 comments received and submitted a recommendation to the Commission in April 2019. On May 28, 2019, the Commission issued a Supplemental Notice of Proposed Rulemaking (SNPRM), which was subsequently published in the Federal Register. 84 FR 24664 (May 28, 2019). As detailed in the SNPRM, after a contact lens fitting, prescribers would have to satisfy a new Confirmation of Prescription Release requirement in one of several ways-requesting that the patient acknowledge receipt of the contact lens prescription by signing a separate confirmation statement; requesting that the patient sign a prescriber-retained copy of the prescription that contains a statement confirming the patient received it; requesting that the patient sign a prescriber-retained copy of the sales receipt for the examination that contains a statement confirming the patient received the prescription; or providing the patient with a digital copy of the prescription and retaining evidence that it was sent, received, or made accessible, downloadable, and printable. The prescriber would have to maintain evidence that they satisfied the Confirmation of Prescription Release requirement for at least 3 years. The Commission believes the newly developed modification will achieve the goals of its original proposal, while imposing less of a burden on prescribers.

The Commission also sought comment on newly recommended Rule modifications affecting prescribers in several other ways: First, by adding to the Rule a definition of the term “provide to the patient a copy,” the Commission proposes to allow prescribers to provide patients with a digital copy of their prescription instead of a paper copy, with the patient's consent; Second, the Commission recommends requiring prescribers to provide an additional copy of a patient's prescription to a designated agent of the patient within 40 business hours of receipt of the request.

Further, to address concerns about incomplete or incomprehensible automated telephone verification messages, the Commission proposed several new requirements for sellers who use such messages to communicate with prescribers, to include requiring that the information be delivered in a slow and deliberate manner and at a reasonably understandable volume and that prescribers be able to repeat the message. The purpose of these proposals is to enable prescribers to fulfill their roles as protectors of patients' eye health by ensuring they can comprehend sellers' verification requests.

Finally, the Commission proposed modifications designed to reduce illegal prescription alterations by sellers in violation of the Rule. The Rule already prohibits prescription alteration, but some sellers appear to use passive verification to switch consumers from their prescribed lens to another lens brand. The Commission therefore proposes to amend the prohibition on seller alteration of prescriptions by specifying that alteration includes a seller providing the prescriber with a verification request with the name of a manufacturer or brand other than that specified by the patient's prescriber, unless such name is specifically provided by the patient.

The Commission also proposed to amend the Rule to require that sellers provide a mechanism that would allow patients to present their prescriptions directly to the seller. These changes are meant to ensure that consumers receive the lenses prescribed for them, consistent with the intent of the FCLCA and the Rule. The public comment period closed on July 29, 2019. Staff submitted a recommendation to the Commission during early spring 2020 and anticipates Commission action by May 2020.

Timetable:

Action | Date | FR cite
Rule Review, Request for Public Comments | 09/03/15 | 80 FR 53272
Rule Review Comment Period Closed | 10/26/15 |
NPRM | 12/07/16 | 81 FR 88526
NPRM Comment Period Closed | 01/30/17 |
Announcement of Public Workshop | 12/08/17 | 82 FR 57889
Public Workshop | 03/07/18 |
Public Workshop Comment Period End | 04/06/18 |
Recommendation to Commission | 04/08/19 |
Supplemental NPRM | 05/28/19 | 84 FR 24664
Supplemental NPRM Comment Period End | 07/29/19 |
Recommendation to Commission | 03/31/20 |
Commission Action | 05/00/20 |

Regulatory Flexibility Analysis Required: No.

Small Entities Affected: Businesses, Organizations.

Government Levels Affected: None.

URL For More Information: https://www.ftc.gov/news-events/press-releases/2019/05/ftc-seeks-additional-public-comment-proposed-changes-contact-lens.

Agency Contact: Alysa Bernstein, Attorney, Federal Trade Commission, 600 Pennsylvania Avenue NW, CC-10528, Washington, DC 20580, Phone: 202 326-3289, Email: abernstein@ftc.gov.

Related RIN: Previously reported as 3084-AA95.

RIN: 3084-AB36

17. Privacy of Consumer Financial Information

Priority: Substantive, Nonsignificant. Major status under 5 U.S.C. 801 is undetermined.

E.O. 13771 Designation: Independent agency.

Legal Authority: 15 U.S.C. 6801 et seq.

CFR Citation: 16 CFR 313.

Legal Deadline: None.

Abstract: The Privacy of Consumer Financial Information Rule (Privacy Rule or Rule), 16 CFR part 313, requires among other things that certain motor vehicle dealers provide an annual disclosure of their privacy policies to their customers by hand delivery, mail, electronic delivery, or, with the consent of the consumer, through a website.

On June 24, 2015, the Commission proposed amending the Rule to allow motor vehicle dealers instead to notify their customers that a privacy policy is available on their websites, under certain circumstances. 80 FR 36267 (June 24, 2015). The proposed amendment would also revise the scope and definitions in the Rule in light of the transfer of part of the Commission's rulemaking authority to the Consumer Financial Protection Bureau in the Dodd-Frank Wall Street Reform and Consumer Protection Act. In particular, the proposed amendment would clarify that the Commission's Privacy Rule applies only to certain motor vehicle dealers, and not to a broader range of financial institutions as it had prior to the enactment of the Dodd-Frank Wall Street Reform and Consumer Protection Act. The comment period closed on August 31, 2015. Congress subsequently enacted the Fixing America's Surface Transportation (FAST) Act, which included a provision amending the Gramm-Leach-Bliley Act to create a new exception to the annual notice requirement. On March 5, 2019, the Commission announced a notice of proposed rulemaking. The comment period closed on June 3, 2019. Staff anticipates sending a recommendation to the Commission by September 2020.

Timetable:

Action | Date | FR cite
NPRM | 06/24/15 | 80 FR 36267
NPRM Comment Period End | 08/31/15 |
Supplemental NPRM | 04/04/19 | 84 FR 13151
Supplemental NPRM Comment Period End | 06/03/19 |
Recommendation to Commission | 09/00/20 |

Regulatory Flexibility Analysis Required: No.

Small Entities Affected: Businesses.

Government Levels Affected: None.

URL For More Information: https://www.ftc.gov/news-events/press-releases/2019/03/ftc-seeks-comment-proposed-amendments-safeguards-privacy-rules.

Agency Contact: David Lincicum, Federal Trade Commission, 600 Pennsylvania Avenue NW, CC-8232, Washington, DC 20580, Phone: 202 326-2773, Email: dlincicum@ftc.gov.

Related RIN: Previously reported as 3084-AA97.

RIN: 3084-AB42

18. Premerger Notification Rules and Report Form

Priority: Substantive, Nonsignificant.

E.O. 13771 Designation: Independent agency.

Legal Authority: 15 U.S.C. 18(a), Clayton Act

CFR Citation: 16 CFR 801 to 803.

Legal Deadline: None.

Abstract: The Premerger Notification Rules (HSR Rules or Rules) and the Antitrust Improvements Act Notification and Report Form (HSR Form) were adopted pursuant to section 7(A) of the Clayton Act. Section 7(A) requires firms of a certain size contemplating mergers, acquisitions, or other transactions of a specified size to file notification with the Federal Trade Commission (FTC) and the U.S. Department of Justice (DOJ) and to wait a designated period of time before consummating the transaction. It also requires the FTC, with the concurrence of the U.S. Assistant Attorney General for the Antitrust Division, to promulgate rules requiring that notification be in a form and contain information necessary to enable the FTC and DOJ to determine whether the proposed transaction may, if consummated, violate antitrust laws. These rules are continually reviewed in order to improve the program's effectiveness and reduce the paperwork burden on the business community.

Pursuant to the 2000 Amendments to section 7(A) of the Clayton Act, codified at 15 U.S.C. 18(a), the filing thresholds are revised annually based on the change in gross national product. The threshold reporting figure of the size-of-the-transaction test under section 7(A)(a)(2)(B)(I) is now $94 million, which was effective February 27, 2020. 85 FR 4984 (Jan. 28, 2020).

On October 31, 2019, the Commission issued a Notice of Proposed Rulemaking that proposed clarifying the definition of foreign issuer in the HSR Rules. 84 FR 58348 (Oct. 31, 2019). The current definition for U.S. and foreign persons and issuers focuses on three tests, one of which relates to the location of “principal offices.” But the term “principal offices” is not defined in the rules; this rulemaking would provide a definition. The deadline for providing public comments closed on December 30, 2019. Staff is currently drafting a recommendation to submit to the Commission by June 2020.

By the end of June 2020, the Commission plans to initiate periodic review of the HSR Rules as part of the Commission's systematic review of all current Commission rules and guides. The Commission plans to seek comments on, among other things, the economic impact and benefits of these Rules; possible conflict between the Rules and State, local, or other Federal laws or regulations; and the effect on the Rules of any technological, economic, or other industry changes.

Timetable:

Action | Date | FR cite
Final Rule (HSR Form Update) | 07/12/17 | 82 FR 32123
Final Rule (HSR Form Instructions Update) | 07/16/18 | 83 FR 32768
Final Rule (HSR Form Instructions Update) Effective | 08/15/18 |
Final Rule (HSR Form Instructions Update) | 06/27/19 | 84 FR 30595
Recommendation to Commission (Foreign Issuer) | 08/15/19 |
Final Rule (HSR Form Instructions Update) Effective | 09/25/19 |
NPRM (Foreign Issuer) | 10/31/19 | 84 FR 58348
NPRM (Foreign Issuer) Comment Period End | 12/30/19 |
Recommendation to Commission (Foreign Issuer) | 06/00/20 |
Rule Review; Request for Comments | 06/00/20 |
NPRM (De Minimis and Aggregation) | 06/00/20 |
NPRM (Reporting and Waiting Period Requirements) | 06/00/20 |

Regulatory Flexibility Analysis Required: No.

Small Entities Affected: No.

Government Levels Affected: None.

International Impacts: This regulatory action will be likely to have international trade and investment effects, or otherwise be of international interest.

URL For More Information: https://www.ftc.gov/news-events/press-releases/2019/11/ftc-doj-approve-procedural-amendments-hsr-rules-foreign-entities.

Agency Contact: Robert L. Jones, Assistant Director, Premerger Notification Office, Bureau of Competition, Federal Trade Commission, 600 Pennsylvania Ave. NW, Washington, DC 20580, Phone: 202 326-2740, Email: rjones@ftc.gov.

Related RIN: Related to 3084-AB32, Related to 3084-AA91, Related to 3084-AA23.

RIN: 3084-AB46

19. • Rules and Regulations Under the Textile Fiber Identification Act

Priority: Substantive, Nonsignificant. Major status under 5 U.S.C. 801 is undetermined.

E.O. 13771 Designation: Independent agency.

Legal Authority: 15 U.S.C. 70

CFR Citation: 15 CFR 303.

Legal Deadline: None.

Abstract: On February 18, 2020, the Commission issued a Notice of Proposed Rulemaking to amend the Textile Rules (officially the Rules and Regulations under the Textile Fiber Products Identification Act) to incorporate the most recent ISO 2076 standard for generic fiber names. 85 FR 8781 (Feb. 18, 2020). The proposed amendment should reduce compliance costs and increase flexibility for firms providing textile fiber information to consumers. The comment period closed on March 19, 2020.

The Textile Fiber Products Identification Act requires articles of wearing apparel and other covered household textile articles to be marked with: (1) The generic names and percentages by weight of the constituent fibers present in the textile fiber product; (2) the name under which the manufacturer or another responsible U.S. company does business, or in lieu thereof, the registered identification number (RN) of such a company; and (3) the name of the country where the textile product was processed or manufactured.

Timetable:

Action | Date | FR cite
NPRM | 02/18/20 | 85 FR 8781
NPRM Public Comment Period End | 03/19/20 |
Staff Review and Analysis of Public Comments | 05/00/20 |

Regulatory Flexibility Analysis Required: Undetermined.

Small Entities Affected: Businesses.

Government Levels Affected: None.

URL For More Information: https://www.ftc.gov/policy/federal-register-notices/16-cfr-part-303-rules-regulations-under-textile-fiber-products-1.

Agency Contact: Jock K. Chung, Attorney, Federal Trade Commission, 600 Pennsylvania Avenue NW, CC-9528, Washington, DC 20580, Phone: 202 326-2984, Email: jchung@ftc.gov.

Related RIN: Previously reported as 3084-AB47.

RIN: 3084-AB61

[FR Doc. 2020-08932 Filed 5-6-20; 8:45 am]

BILLING CODE P